DEPARTMENT OF TRANSPORTATION

Federal Transit Administration

Preparation of Supplemental Environmental Impact Statement on the Silver Line Phase III, Boston, MA

AGENCY: Federal Transit Administration (FTA), DOT.

ACTION: Notice of intent to prepare a Supplemental Environmental Impact Statement (SEIS).

SUMMARY: The Federal Transit Administration (FTA) and the Massachusetts Bay Transportation Authority (MBTA) intend to prepare a Supplemental Environmental Impact Statement (SEIS) in accordance with the National Environmental Policy Act (NEPA) and a Supplemental Environmental Impact Report (SEIR) in accordance with the Massachusetts Environmental Policy Act (MEPA) for Phase III of the Silver Line. The Silver Line is comprised of two formerly separate MBTA bus rapid transit (BRT) projects: the South Boston Piers Transitway (now Silver Line Phase II), providing service from downtown Boston to the South Boston Waterfront area and Logan International Airport, and the Washington Street Replacement Transit Service (now Silver Line Phase I), extending from Dudley Square to downtown Boston. Phase III will connect Silver Line Phases I and II and will run from South Station to Washington Street along Essex and Boylston Streets. Two new Silver Line Stations are proposed: at Boylston Station (connecting to the MBTA Green Line) and Chinatown Station (connecting to the MBTA Orange Line). Alternative alignments for the tunnel extension to the portal connection to Washington Street will be evaluated in the SEIS.

Phase III of the Silver Line incorporates what had originally been the second phase of the South Boston Piers Transitway, a tunnel connection between South Station and Boylston Station. An alignment for this phase, extending from South Station along Essex Street, Avenue de Lafayette, and Avery/Tremont Streets to Boylston Station terminating in a loop underneath the Boston Common Central Burying Ground, was reviewed and approved as part of the 1993 South Boston Piers/Fort Point Channel Transit Project Final Environmental Impact Statement/Final Environmental Impact Report (FEIS/FEIR). The FTA issued its Record of Decision (ROD) for the Full Build Alternative of the South Boston Piers Transitway Project (which was intended to be built in two phases) on May 12, 1994. The initial phase of the Transitway project (now Phase II of the Silver Line) is currently under construction between South Station and the South Boston waterfront. This SEIS will evaluate the alignment modifications from South Station (where it will connect to the Phase II tunnel) to Boylston Station and the alternative tunnel alignment and portal locations for the connection to Phase I of the Silver Line, which is currently providing service on Washington Street.

DATES: A Public Hearing will be held Wednesday, July 14, 2004 at 7 p.m. at the Renaissance School at 250 Stuart Street, Boston, Massachusetts. Written Comments on the scope of the SEIS should be sent to Mr. Andrew Brennan no later than Friday, July 30, 2004. See ADDRESSES below.

ADDRESSES: Written comments should be sent to Mr. Andrew Brennan, Director of Environmental Affairs, Massachusetts Bay Transportation Authority, 10 Park Plaza, Room 6720, Boston, MA 02116. Phone No. 617-222-3126.

FOR FURTHER INFORMATION CONTACT: Donna Laidley, Federal Transit Administration, Region 1, 55 Broadway, Kendall Square, Cambridge, MA 02142, Phone No. 617-494-2484. Project Information can also be found on the MBTA's Web site at www.allaboutsilverline.com.

SUPPLEMENTARY INFORMATION:

I. Public Comment

FTA and MBTA will establish the scope of the SEIS for Silver Line Phase III after consulting with Federal, State, and local resource and regulatory agencies through meetings and correspondence, and after hearing from the general public. Interested individuals, organizations, and agencies are invited to comment on the alternatives to be evaluated and related issues of concern. Written comments on the alternatives and potential impacts to be considered should be sent to Andrew Brennan at the MBTA.

II. Alternatives

A preferred alternative for the core tunnel segment has been selected. This core tunnel segment connects to the existing Silver Line Phase II tunnel in Atlantic Avenue, near South Station. The tunnel extends down Essex and Boylston Street to a turnaround loop under the intersection of Charles and Boylston Streets. Two new underground Silver Line stations at Chinatown and Boylston Street will be provided. The core tunnel segment is substantially similar to the project that was reviewed in the prior 1993 FEIS/FEIR, for which the FTA issued a ROD, and the Massachusetts Executive Office of Environmental Affairs (EOEA) issued a Certificate of Adequacy.

The preferred portal location and tunnel alignment connecting the core tunnel segment to the portal have not been selected at this point. The public comment process will provide input into the analysis of alternatives, following which a preferred portal location and tunnel alignment alternative will be selected through the SEIS process. The FTA and the MBTA propose that the following alternatives be considered in the SEIS:

Alternative 1: No-Action

This Alternative assumes existing conditions within the Silver Line Phase III corridor, and that Silver Line Phase I and Phase II would operate as independent services. This alternative further assumes no transit investment in the corridor, and therefore avoids any impacts or benefits associated with the Build Alternatives. It serves as the NEPA baseline against which the transportation, environmental and community impacts of the other alternatives are compared. The No Action Alternative further consists of the transportation network contained in the Regional Transportation Plan for the year 2025.

Alternative 2: Transportation System Management (TSM)

This alternative includes increased Frequency of Existing Service. Under this option revenue service on Phases I and II would be increased to a level consistent with that proposed for Phase III operation. Headways for both Phases would be decreased and connections between Phases I and II would be made via transfer to and from the Red Line at Downtown Crossing Station (to access the waterfront and Logan Airport) or South Station (to access destinations along Washington Street). For the purpose of the FTA's Section 5309 New Starts evaluation process, this TSM alternative serves as the baseline for quantifying the transportation benefits of the build alternatives.

Alternatives 3 Through 5

The MBTA has developed a set of portal location and portal route alignment alternatives that respond both to the concerns of various stakeholders within the project area and to engineering and operational criteria. Each of these alternatives has in common the core tunnel segment from South Station to the turnaround loop at Charles Street that follows an alignment on Essex and Boylston Streets. This core tunnel segment configuration provides the option of the following alternative alignments to a portal.

Alternative 3: Tremont Street/NEMC Portal

This Alternative consists of a tunnel extending from the core tunnel segment on a Tremont Street alignment to a portal located between the New England Medical Center (NEMC) garage and the Doubletree Hotel (the NEMC Portal)with a ramp providing access to Washington Street.

Alternative 4: Charles Street/NEMC Portal

This Alternative consists of a tunnel extending south from the core tunnel segment along a Charles Street alignment, and turning east crossing under Elliot Norton Park and Tremont Street to the NEMC Portal and ramp to Washington Street.

Alternative 5: Charles Street/Elliot Norton Park Portal

This Alternative consists of a tunnel extending south from the core tunnel segment along a Charles Street alignment to a portal located within Elliot Norton Park, with a ramp to Tremont Street.

Other Alternatives

The Silver Line Phase III project will serve the Washington Street corridor as far as Dudley Station, and will also provide parallel service to the Back Bay, providing a connection from both areas to the South Boston waterfront and Logan Airport. Throughout the development of the project, individuals and stakeholders have raised the concept of shifting the portal to a location closer to the Back Bay, making this connection more direct. Under such an alignment, the MBTA would still connect to Phase I service in Washington Street, but via a portal in the Columbus Avenue area, as opposed to a portal on Washington Street. The FTA and MBTA are interested in receiving public comment on the viability and feasibility of such an alternative, and whether it would be appropriate for detailed impact analysis in the SEIS.

III. Public Involvement

A comprehensive public involvement program has been developed. The program includes: Outreach to local officials and community and civic groups, a public hearing to identify issues of concern among all interested parties, and development of a project Web site www.allaboutsilverline.com.

IV. Probable Effects and Potential Impacts for Analysis

The FTA and MBTA will evaluate environmental, social, and economic impacts of alternatives analyzed in the SEIS. The likely impact areas to be addressed include: Noise and vibration; land use; visual/aesthetic values; cultural and historical resources; water quality, natural resources, air quality; traffic and parking; hazardous materials; utilities; energy use and conservation; public safety and security; and community impacts. The SEIS will evaluate environmental justice issues as well as secondary, cumulative, and construction-related impacts. The need for right-of-way acquisitions and relocations will also be evaluated. Measures to avoid, minimize, and mitigate adverse impacts will be developed and evaluated.

V. FTA Procedures

In accordance with FTA policy, all Federal laws, regulations, and executive orders affecting project development, including but not limited to the regulations of the Council on Environmental Quality and FTA's regulations implementing NEPA (40 CFR parts 1500-1508, and 23 CFR part 771) will be addressed to the maximum extent practicable during the NEPA process. In addition, the MBTA seeks 5309 New Starts funding for the project and will therefore be subject all the requirements contained in the FTA New Starts regulation (49 CFR part 611).

Issued on: June 21, 2004.
Richard H. Doyle,
Regional Administrator.

[FR Doc. 04-14637 Filed 6-25-04; 8:45 am]

BILLING CODE 4910-57-P